DEPARTMENT OF COMMERCE

[I.D. 052303C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: American Fisheries Act: Recordkeeping and Reporting Requirements.

Form Number(s): None.

OMB Approval Number: 0648-0401.

Type of Request: Regular submission.

Burden Hours: 1,024.

Number of Respondents: 26.

Average Hours Per Response: 20 hours for a cooperative preliminary report; 8 hours for a cooperative final report; 30 minutes for a non-member vessel contract fishing application; 35 minutes for a shoreside processor electronic logbook (SPELR); 5 minutes for a cooperative pollock catch report; and 5 minutes for a designation of agent for service of process.

Needs and Uses: On October 21, 1998, the President signed into law the American Fisheries Act (AFA), which imposed major structural changes on the Bering Sea and Aleutian Islands Management Area (BSAI) pollock fishery. The purpose of the AFA was to tighten U.S. ownership standards that had been exploited under the Antireflagging Act, and to provide the BSAI pollock fleet with the opportunity to conduct their fishery in a more rational manner while protecting non-AFA participants in the other fisheries. The AFA also affected the management of other groundfish, crab, and scallop fisheries off Alaska. Much of the monitoring and enforcement burden is placed on participating AFA cooperatives and their members, which allows NOAA to manage the pollock fishery more precisely. Monitoring their own catch, vessels are able to individually (and in aggregate) come very close to harvesting exactly the amount of pollock they were allocated.

Affected Public: Business or other for-profit organizations.

Frequency: On occasion, annually, recordkeeping.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: May 21, 2003.
Gwellnar Banks,
Management Analyst, Office of the Chief Information Officer.

[FR Doc. 03-13424 Filed 5-28-03; 8:45 am]

BILLING CODE 3510-22-S